DEPARTMENT OF TRANSPORTATION

Federal Aviation Administration

14 CFR Part 39

[Docket No. 2002-NM-267-AD; Amendment 39-13460; AD 2004-03-16]

RIN 2120-AA64

Airworthiness Directives; Dornier Model 328-300 Series Airplanes

AGENCY: Federal Aviation Administration, DOT.

ACTION: Final rule.

SUMMARY: This amendment adopts a new airworthiness directive (AD), applicable to certain Dornier Model 328-300 series airplanes, that requires replacement of 3-switch and 4-switch overhead fire extinguisher control panels with new, improved panels. This action is necessary to prevent the inadvertent release of the fire switch pushbutton on the overhead fire extinguisher control panel with the switch guard closed, which could result in an uncommanded engine shutdown. This action is intended to address the identified unsafe condition.

DATES: Effective March 17, 2004.

The incorporation by reference of certain publications listed in the regulations is approved by the Director of the Federal Register as of March 17, 2004.

ADDRESSES: The service information referenced in this AD may be obtained from AvCraft Aerospace GmbH, P.O. Box 1103, D-82230 Wessling, Germany. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Dornier Model 328-300 series airplanes was published in the Federal Register on November 17, 2003 (68 FR 64822). That action proposed to require replacement of 3-switch and 4-switch overhead fire extinguisher control panels with new, improved panels.

Comments

Interested persons have been afforded an opportunity to participate in the making of this amendment. Due consideration has been given to the one comment received.

The commenter supports the proposed rule.

Conclusion

After careful review of the available data, including the comment noted above, the FAA has determined that air safety and the public interest require the adoption of the rule as proposed.

Cost Impact

The FAA estimates that 19 airplanes of U.S. registry will be affected by this AD, that it will take approximately 1 work hour per airplane to accomplish the replacement of the overhead fire extinguisher control panel, and that the average labor rate is $65 per work hour. Required parts will be provided by the parts manufacturer at no cost to operators. Based on these figures, the cost impact of the AD on U.S. operators is estimated to be $1,235, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-03-16 Fairchild Dornier Gmbh (Formerly Dornier Luftfahrt GmbH): Amendment 39-13460. Docket 2002-NM-267-AD.

Applicability: Model 328-300 series airplanes as listed in Dornier Service Bulletins SB-328J-26-156 and SB-328J-26-161, both dated February 26, 2002; certificated in any category.

Compliance: Required as indicated, unless accomplished previously.

To prevent the inadvertent release of the fire switch pushbutton on the overhead fire extinguisher control panel with the switch guard closed, which could result in an uncommanded engine shutdown, accomplish the following:

Replacement of Overhead Fire Extinguisher Control Panel and Follow-on Actions

(a) Within 16 months after the effective date of this AD: Replace the overhead fire extinguisher control panels with new, improved fire extinguisher control panels, by accomplishing all of the actions specified in Paragraphs 2.A, 2.B(1) through (4) inclusive, and 2.C, of the Accomplishment Instructions of Dornier Service Bulletin SB-328J-26-156 or SB-328J-26-161, both dated February 26, 2002; as applicable.

Note 1: Dornier Service Bulletins SB-328J-26-156 and SB-328J-26-161 refer to Smiths Aerospace Service Bulletins 371-01 and 370-01, respectively, both dated February 20, 2002, as additional sources of service information for accomplishment of the required actions.

Parts Installation

(b) As of the effective date of this AD, no person may install fire extinguisher control panels manufactured by Smiths Aerospace having part numbers 715740-1 or 715355-1 on any airplane.

Alternative Methods of Compliance

(c) In accordance with 14 CFR 39.19, the Manager, International Branch, ANM-116, FAA, Transport Airplane Directorate, is authorized to approve alternative methods of compliance for this AD.

Incorporation by Reference

(d) The actions shall be done in accordance with Dornier Service Bulletin SB-328J-26-156, dated February 26, 2002; or Dornier Service Bulletin SB-328J-26-161, dated February 26, 2002; as applicable. This incorporation by reference was approved by the Director of the Federal Register in accordance with 5 U.S.C. 552(a) and 1 CFR part 51. Copies may be obtained from AvCraft Aerospace GmbH, P.O. Box 1103, D-82230 Wessling, Germany. Copies may be inspected at the FAA, Transport Airplane Directorate, 1601 Lind Avenue, SW., Renton, Washington; or at the Office of the Federal Register, 800 North Capitol Street, NW., suite 700, Washington, DC.

Note 2: The subject of this AD is addressed in German airworthiness directives 2002-251, dated September 5, 2002; and 2002-335, dated October 17, 2002.

Effective Date

(e) This amendment becomes effective on March 17, 2004.

Issued in Renton, Washington, on January 29, 2004.
Kalene C. Yanamura,
Acting Manager, Transport Airplane Directorate, Aircraft Certification Service.

[FR Doc. 04-2579 Filed 2-10-04; 8:45 am]

BILLING CODE 4910-13-P